DEPARTMENT OF TRANSPORTATION

Coast Guard

33 CFR Part 117

[CGD07-02-104]

Drawbridge Operation Regulations; Hobe Sound Bridge (SR 708), Atlantic Intracoastal Waterway, mile 996.0, Hobe Sound, Martin County, FL

AGENCY: Coast Guard, DOT.

ACTION: Notice of temporary deviation from regulations; request for comments.

SUMMARY: The Commander, Seventh Coast Guard District, has approved a temporary deviation from the regulations governing the operation of the Hobe Sound (SR 708) bridge at Hobe Sound across the Atlantic Intracoastal Waterway, mile 996.0 in Hobe Sound, Florida. This deviation will test a change to the current bridge regulation and allow the bridge to open on the hour, 20 minutes after the hour, and 40 minutes after the hour from 7 a.m. to 6 p.m. daily. This action is intended to improve the movement of vehicular traffic while not unreasonably interfering with the movement of vessel traffic.

DATES: This deviation is effective from 7 a.m. on November 1, 2002 until 6 p.m. on January 27, 2003. Comments must reach the Coast Guard on or before March 31, 2003.

ADDRESSES: You may mail comments and related material to Commander (obr), Seventh Coast Guard District, 909 SE. 1st Avenue, Room 432, Miami, FL 33131. Comments and material received from the public, as well as comments indicated in this preamble as being available in the docket, are part of docket [CGD07-02-104] and are available for inspection or copying at Commander (obr), Seventh Coast Guard District, 909 SE. 1st Avenue, Room 432, Miami, FL 33131 between 8 a.m. and 4 p.m., Monday through Friday, except Federal holidays.

FOR FURTHER INFORMATION CONTACT: Mr. Michael Lieberum, Project Manager, Seventh Coast Guard District, Bridge Branch at (305) 415-6744.

SUPPLEMENTARY INFORMATION:

Request for Comments

We encourage you to comment on this test schedule by submitting comments and related material. If you do so, please include your name and address, identify the docket number for this notice [CGD07-02-104], indicate the specific section of this document to which each comment applies, and give the reason for each comment. Please submit all comments and related material in an unbound format, no larger than 8½ by 11 inches, suitable for copying. If you would like to know they reached us, please enclose a stamped, self-addressed postcard or envelope. We will consider all comments and material received during the comment period.

Discussion of the Test Schedule

The existing regulations for the Hobe Sound (SR 708) bridge in 33 CFR 117.5, require the bridge to open on signal.

The Town of Jupiter Island requested on June 18, 2002, that the Coast Guard review the existing regulation of the Hobe Sound drawbridge as they believe the existing regulations are not meeting the needs of vehicle and vessel traffic. This test deviation will allow the bridge to open only on the hour, 20 minutes after the hour, and 40 minutes after the hour. We will utilize the data collected from this test deviation to determine if new operating regulations need to be created for this bridge to facilitate vehicle and vessel traffic movement.

The District Commander has granted a test deviation from the operating requirements listed in 33 CFR 117.5 to evaluate the effect of this new schedule on vehicle and vessel traffic. Under this deviation, the Hobe Sound bridge need only open on the hour, 20 minutes after the hour, and 40 minutes after the hour from 7 a.m. on November 1, 2002 until 6 p.m. on January 27, 2003.

Dated: August 20, 2002.
Greg Shapley,
Chief, Bridge Administration, Seventh Coast Guard District.

[FR Doc. 02-21920 Filed 8-27-02; 8:45 am]

BILLING CODE 4910-15-P